FEDERAL DEPOSIT INSURANCE CORPORATION

[OMB No. 3064-0079; -0122; -0202]

Agency Information Collection Activities: Proposed Collection Renewal; Comment Request

AGENCY: Federal Deposit Insurance Corporation.

ACTION: Notice and request for comment.

SUMMARY: The Federal Deposit Insurance Corporation (FDIC), as part of its obligations under the Paperwork Reduction Act of 1995 (PRA), invites the general public and other Federal agencies to take this opportunity to comment on the renewal of the existing information collections described below (OMB Control Nos. 3064-0079; -0122; and -0202).

DATES: Comments must be submitted on or before February 13, 2026.

ADDRESSES: Interested parties are invited to submit written comments to the FDIC by any of the following methods:

• Agency Website: https://www.fdic.gov/resources/regulations/federal-register-publications/.

• Email: comments@fdic.gov. Include the name and number of the collection in the subject line of the message.

• Mail: Robert Meiers, Regulatory Counsel, MB-3013, Federal Deposit Insurance Corporation, 550 17th Street NW, Washington, DC 20429.

• Hand Delivery: Comments may be hand-delivered to the guard station at the rear of the 17th Street NW building (located on F Street NW), on business days between 7 a.m. and 5 p.m.

All comments should refer to the relevant OMB control number. A copy of the comments may also be submitted to the OMB desk officer for the FDIC: Office of Information and Regulatory Affairs, Office of Management and Budget, New Executive Office Building, Washington, DC 20503.

FOR FURTHER INFORMATION CONTACT: Robert Meiers, Regulatory Counsel, 703-562-6414, romeiers@fdic.gov, MB-3013, Federal Deposit Insurance Corporation, 550 17th Street NW, Washington, DC 20429.

SUPPLEMENTARY INFORMATION: Proposal to renew the following currently approved collection of information:

1. Title: Application to Retire or Reduce Capital.

OMB Number: 3064-0079.

Form Number: N/A.

Affected Public: Insured State nonmember banks and State savings associations.

Burden Estimate:

Summary of Estimated Annual Burden (OMB No. 3064-0079)
Information collection (IC) (obligation to respond) | Type of burden (frequency of response) | Number of respondents | Number of responses per respondent | Average time per response (HH:MM) | Annual burden (hours)
1. Application for Consent to Retire or Reduce Capital (Mandatory) | Reporting (On Occasion) | 49 | 1.37 | 11:00 | 737
Total Annual Burden (Hours) |  |  |  |  | 737
Source: FDIC.

General Description of Collection: Insured State nonmember banks proposing to change their capital structure must submit an application containing information about the proposed change to obtain the FDIC's consent to reduce or retire capital. There is no change in the method or substance of the collection. The decrease of 374 hours from 1,111 hours in 2023 to the current estimate of 737 hours is due to a decrease in the estimated number of respondents.

2. Title: Forms Relating to FDIC Outside Counsel, Legal Support and Expert Services Programs.

OMB Number: 3064-0122.

Form Number: See table below.

Affected Public: Entities providing legal and expert services to the FDIC.

Burden Estimate:

Summary of Estimated Annual Burden (OMB No. 3064-0122)
Information collection (IC) (obligation to respond) | Type of burden (frequency of response) | Number of respondents | Number of responses per respondent | Average time per response (HH:MM) | Annual burden (hours)
1. Legal Service Agreement, 12 CFR part 361 and 12 CFR part 366 (Mandatory) | Reporting (On Occasion) | 52 | 1 | 00:15 | 13
2. Outside Counsel Legal Services Agreement Rate Schedule, 12 CFR part 361 and 12 CFR part 366 (Mandatory) | Reporting (On Occasion) | 52 | 1 | 01:00 | 52
3. Representations and Certifications for Legal Contractors, 12 CFR part 361 and 12 CFR part 366 (Mandatory) | Reporting (On Occasion) | 59 | 1 | 01:00 | 59
4. Legal Services Agreement Amendment, 12 CFR part 361 and 12 CFR part 366 (Mandatory) | Reporting (On Occasion) | 99 | 1 | 00:30 | 50
5. Non-Litigation Budget Form, 12 CFR part 361 and 12 CFR part 366 (Mandatory) | Reporting (On Occasion) | 8 | 1 | 00:30 | 4
6. Amended Non-Litigation Budget, 12 CFR part 361 and 12 CFR part 366 (Mandatory) | Reporting (On Occasion) | 1 | 1 | 00:30 | 1
7. Litigation Budget, 12 CFR part 361 and 12 CFR part 366 (Mandatory) | Reporting (On Occasion) | 7 | 1 | 00:30 | 4
8. Amended Litigation Budget, 12 CFR part 361 and 12 CFR part 366 (Mandatory) | Reporting (On Occasion) | 2 | 1 | 00:30 | 1
9. Legal Invoice for Fees and Expenses, 12 CFR part 361 and 12 CFR part 366 (Mandatory) | Reporting (On Occasion) | 150 | 1 | 00:15 | 38
10. Firm Travel Voucher, 12 CFR part 361 and 12 CFR part 366 (Mandatory) | Reporting (On Occasion) | 33 | 1 | 00:30 | 17
11. Representations and Certifications for Experts and Legal Support Services Providers, 12 CFR part 361 and 12 CFR part 366 (Mandatory) | Reporting (On Occasion) | 11 | 1 | 00:45 | 8
12. Agreement for Services (Expert or Legal Support Services Provider) Provider Rate Schedule, 12 CFR part 361 and 12 CFR part 366 (Mandatory) | Reporting (On Occasion) | 11 | 1 | 01:00 | 11
13. Agreement for Services (Expert or Legal Support Services Provider Amendment, 12 CFR part 361 and 12 CFR part 366 (Mandatory) | Reporting (On Occasion) | 10 | 1 | 00:30 | 5
14. Legal Support Services Provider Budget Form, 12 CFR part 361 and 12 CFR part 366 (Mandatory) | Reporting (On Occasion) | 6 | 1 | 00:30 | 3
15. Expert budget, 12 CFR part 361 and 12 CFR part 366 (Mandatory) | Reporting (On Occasion) | 1 | 1 | 00:30 | 1
16. Expert invoice for Fees and Expenses, 12 CFR part 361 and 12 CFR part 366 (Mandatory) | Reporting (On Occasion) | 1 | 1 | 00:15 | 0
17. Legal Support Services Provider Invoice for Fees and Expenses, 12 CFR part 361 and 12 CFR part 366 (Mandatory) | Reporting (On Occasion) | 23 | 1 | 00:15 | 6
18. Oral Representations and Certifications for Expert Legal Support Services, 12 CFR part 361 and 12 CFR part 366 (Mandatory) | Reporting (On Occasion) | 1 | 0.333 | 00:30 | 0
Total Annual Burden (Hours) |  |  |  |  | 273
Source: FDIC.

General Description of Collection: The information collected enables the FDIC to ensure that all individuals, businesses, and firms seeking to provide legal support services to the FDIC meet the eligibility requirements established by Congress. The information is also used to manage and monitor payments to contractors, document contract amendments, expiration dates, and billable individuals and to ensure that law firms, experts, and other legal support services providers comply with statutory and regulatory requirements. This collection consists of 18 forms. The increase of 209 hours from 64 hours in 2023 to the current estimate of 273 hours is due to an increase in the estimated number of annual respondents resulting from the revised methodology, with the remainder of the difference resulting from the re-estimation of the time per response.

3. Title: Recordkeeping for Timely Deposit Insurance Determination.

OMB Number: 3064-0202.

Form Number: N/A.

Affected Public: Insured State nonmember banks and State savings associations.

Burden Estimate:

Summary of Estimated Annual Burden (OMB No. 3064-0202)
Information collection (IC) (obligation to respond) | Type of burden (frequency of response) | Number of respondents | Number of responses per respondent | Average time per response (HH:MM) | Annual burden (hours)
1. Implementation—Lowest Complexity, 12 CFR part 370 (Mandatory) | Recordkeeping (Annual) | 1 | 1 | 3145:00 | 3,145
2. Implementation—Medium Complexity, 12 CFR part 370 (Mandatory) | Recordkeeping (Annual) | 1 | 1 | 5960:00 | 5,960
3. Implementation—Highest Complexity, 12 CFR part 370 (Mandatory) | Recordkeeping (Annual) | 1 | 0.333 | 36307:00 | 0
4. Ongoing—Lowest Complexity, 12 CFR part 370 (Mandatory) | Recordkeeping (Annual) | 10 | 1 | 5:00 | 50
5. Ongoing—Medium Complexity, 12 CFR part 370 (Mandatory) | Recordkeeping (Annual) | 11 | 1 | 60:00 | 660
6. Ongoing—Highest Complexity, 12 CFR part 370 (Mandatory) | Recordkeeping (Annual) | 5 | 1 | 20:00 | 100
7. Request for Exception, 12 CFR 370.8(b) (RtoB) | Reporting (On occasion) | 1 | 1 | 20:00 | 20
8. Request for Release, 12 CFR 370.8(c) (RtoB) | Reporting (On occasion) | 1 | 1 | 20:00 | 20
9. Request for Extension, 12 CFR 370.6(b) (RtoB) | Reporting (On occasion) | 1 | 1 | 20:00 | 20
10. Request for Exemption, 12 CFR 370.8(a) (RtoB) | Reporting (On occasion) | 1 | 1 | 20:00 | 20
11. Annual Certification and Report, 12 CFR 370.10(a) (Mandatory) | Reporting (Annual) | 29 | 1 | 5:00 | 145
12. Written information to Account Holder, 12 CFR 370.5(a) (Mandatory) | Disclosure (Annual) | 29 | 1 | 1:00 | 29
Total Annual Burden (Hours) |  |  |  |  | 10,169
Source: FDIC.

General Description of Collection: When a bank fails, the FDIC must provide depositors' insured funds “as soon as possible” after failure while also resolving the failed bank in the least costly manner. The requirements of 12 CFR part 370 facilitate prompt payment of FDIC insured deposits when large insured depository institutions fail. The rule requires insured depository institutions that have two million or more deposit accounts (covered institutions) to maintain complete and accurate data on each depositor's ownership interest by right and capacity for all of the covered institution's deposit accounts. The covered institutions are required to develop the capability to calculate the insured and uninsured amounts for each deposit owner, by ownership right and capacity, for all deposit accounts. This data would be used by the FDIC to make timely deposit insurance determinations in the event of a covered insured depository institution's failure. There is no change in the method or substance of the collection. The decrease of 42,483 hours from 52,652 hours in 2023 to the current estimate of 10,169 hours is due to the elimination of the implementation burden for the Highest Complexity covered insured depository institutions and the reduction in the times per response.

Request for Comment

Comments are invited on (a) whether the collections of information are necessary for the proper performance of the FDIC's functions, including whether the information has practical utility; (b) the accuracy of the estimates of the burden of the information collections, including the validity of the methodology and assumptions used; (c) ways to enhance the quality, utility, and clarity of the information to be collected; and (d) ways to minimize the burden of the collections of information on respondents, including through the use of automated collection techniques or other forms of information technology. All comments will become a matter of public record.

Federal Deposit Insurance Corporation.
Dated at Washington, DC, on December 11, 2025.
Jennifer M. Jones,
Deputy Executive Secretary.

[FR Doc. 2025-22826 Filed 12-12-25; 8:45 am]

BILLING CODE 6714-01-P